DEPARTMENT OF LABOR

Employment and Training Administration

[TA-W-50,809]

Eastman Kodak Company, Skilled Resources Division, Rochester, NY; Dismissal of Application for Reconsideration

Pursuant to 29 CFR 90.18(C) an application for administrative reconsideration was filed with the Director of the Division of Trade Adjustment Assistance for workers at Eastman Kodak Company, Skilled Resources Division, Rochester, New York.

The application contained no new substantial information which would bear importantly on the Department's determination. Therefore, dismissal of the application was issued.

TA-W-50,809; Eastman Kodak Company, Skilled Resources Division, Rochester, New York (April 18, 2003).

Signed at Washington, DC this 22nd day of April 2003.
Timothy F. Sullivan,
Director, Division of Trade Adjustment Assistance.

[FR Doc. 03-10749 Filed 4-30-03; 8:45 am]

BILLING CODE 4510-30-P